DEPARTMENT OF HOMELAND SECURITY

Federal Emergency Management Agency

[Docket ID FEMA-2020-0002; Internal Agency Docket No. FEMA-B-2066]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The LOMR will be used by insurance agents and others to calculate appropriate flood insurance premium rates for new buildings and the contents of those buildings. For rating purposes, the currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Michael M. Grimm,
Assistant Administrator for Risk Management, Department of Homeland Security, Federal Emergency Management Agency.

State and county | Location and case No. | Chief executive officer of community | Community map repository | Online location of letter of map revision | Date of modification | Community No.
Arizona:
Maricopa | City of Glendale (20-09-0467P). | The Honorable Jerry P. Weiers, Mayor, City of Glendale, 5850 West Glendale Avenue, Suite 451, Glendale, AZ 85301. | City Hall, 5850 West Glendale Avenue, Glendale, AZ 85301. | https://msc.fema.gov/portal/advanceSearch. | Dec. 18, 2020 | 040045
Maricopa | City of Peoria (20-09-0467P). | The Honorable Cathy Carlat, Mayor, City of Peoria, 8401 West Monroe Street, Peoria, AZ 85345. | City Hall, 8401 West Monroe Street, Peoria, AZ 85345. | https://msc.fema.gov/portal/advanceSearch. | Dec. 18, 2020 | 040050
Maricopa | City of Peoria (20-09-0555P). | The Honorable Cathy Carlat, Mayor, City of Peoria, 8401 West Monroe Street, Peoria, AZ 85345. | City Hall, 8401 West Monroe Street, Peoria, AZ 85345. | https://msc.fema.gov/portal/advanceSearch. | Dec. 28, 2020 | 040050
Maricopa | City of Peoria (20-09-0943P). | The Honorable Cathy Carlat, Mayor, City of Peoria, 8401 West Monroe Street, Peoria, AZ 85345. | City Hall, 8401 West Monroe Street, Peoria, AZ 85345. | https://msc.fema.gov/portal/advanceSearch. | Jan. 22, 2021 | 040050
Maricopa | City of Phoenix (20-09-0698P). | The Honorable Kate Gallego, Mayor, City of Phoenix, City Hall, 200 West Washington Street, Phoenix, AZ 85003. | Street Transportation Department, 200 West Washington Street, 5th Floor, Phoenix, AZ 85003. | https://msc.fema.gov/portal/advanceSearch. | Jan. 4, 2021 | 040051
Maricopa | City of Scottsdale (20-09-0698P). | The Honorable W.J. “Jim” Lane, Mayor, City of Scottsdale, City Hall, 3939 North Drinkwater Boulevard, Scottsdale, AZ 85251. | Planning Records, 7447 East Indian School Road, Suite 100, Scottsdale, AZ 85251. | https://msc.fema.gov/portal/advanceSearch. | Jan. 4, 2021 | 045012
California:
Kern | City of Tehachapi (20-09-0624P). | The Honorable Susan Wiggins, Mayor, City of Tehachapi, 115 South Robinson Street, Tehachapi, CA 93561. | City Hall, 115 South Robinson Street, Tehachapi, CA 93561. | https://msc.fema.gov/portal/advanceSearch. | Dec. 17, 2020 | 060084
Kern | Unincorporated Areas of Kern County (20-09-0624P). | The Honorable Leticia Perez, Chair, Board of Supervisors, Kern County, 1115 Truxtun Avenue, 5th Floor, Bakersfield, CA 93301. | Kern County Planning Department, 2700 M Street, Suite 100, Bakersfield, CA 93301. | https://msc.fema.gov/portal/advanceSearch. | Dec. 17, 2020 | 060075
Los Angeles | Unincorporated Areas of Los Angeles County (20-09-0667P). | The Honorable Kathryn Barger, Chairman, Board of Supervisors, Los Angeles County, 500 West Temple Street, Room 869, Los Angeles, CA 90012. | Los Angeles County Public Works Headquarters, Watershed Management Division, 900 South Fremont Avenue, Alhambra, CA 91803. | https://msc.fema.gov/portal/advanceSearch. | Jan. 20, 2021 | 065043
Florida:
Duval | City of Jacksonville (19-04-2830P). | The Honorable Lenny Curry, Mayor, City of Jacksonville, 117 West Duval Street, Suite 400, Jacksonville, FL 32202. | Edward Ball Building Development Services, Room 2100, 214 North Hogan Street, Jacksonville, FL 32202. | https://msc.fema.gov/portal/advanceSearch. | Jan. 11, 2021 | 120077
Orange | City of Orlando (20-04-0603P). | The Honorable Buddy Dyer, Mayor, City of Orlando, P.O. Box 4990, Orlando, FL 32801. | City Hall, Permitting Services, 400 South Orange Avenue, 1st Floor, Orlando, FL 32801. | https://msc.fema.gov/portal/advanceSearch. | Jan. 7, 2021 | 120186
Orange | Unincorporated Areas of Orange County (20-04-0603P). | The Honorable Jerry L. Demings, Mayor, Orange County, 201 South Rosalind Avenue, 5th Floor, Orlando, FL 32801. | Orange County Stormwater Management Division, 4200 South John Young Parkway, Orlando, FL 32839. | https://msc.fema.gov/portal/advanceSearch. | Jan. 7, 2021 | 120179
St. Johns | Unincorporated Areas of St. Johns County (19-04-6644P). | The Honorable Jeb S. Smith, Chair, St. Johns County, Board of County Commissioners, 500 San Sebastian View, St. Augustine, FL 32084. | St. Johns County Permit Center, 4040 Lewis Speedway, St. Augustine, FL 32084. | https://msc.fema.gov/portal/advanceSearch. | Jan. 15, 2021 | 125147
Illinois: Ogle | City of Rochelle (18-05-6017P). | The Honorable John Bearrows, Mayor, City of Rochelle, 420 North 6th Street, Rochelle, IL 61068. | City Hall, 420 North 6th Street, Rochelle, IL 61068. | https://msc.fema.gov/portal/advanceSearch. | Dec. 31, 2020 | 170532
Indiana: Marion | City of Indianapolis (20-05-1025P). | The Honorable Joe Hogsett, Mayor, City of Indianapolis, 2501 City-County Building, 200 East Washington Street, Indianapolis, IN 46204. | City Hall, 1200 Madison Avenue, Suite 100, Indianapolis, IN 46225. | https://msc.fema.gov/portal/advanceSearch. | Jan. 8, 2021 | 180159
Michigan: Washtenaw | City of Ann Arbor (20-05-2798P). | The Honorable Christopher Taylor, Mayor, City of Ann Arbor, City Hall, 301 East Huron Street, 3rd Floor, Ann Arbor, MI 48104. | City Hall, 301 East Huron Street, 3rd Floor, Ann Arbor, MI 48104. | https://msc.fema.gov/portal/advanceSearch. | Jan. 15, 2021 | 260213
Ohio:
Lorain | City of Elyria (19-05-3354P). | The Honorable Frank Whitfield, MBA, Mayor, City of Elyria, City Hall, 131 Court Street, Suite 301, Elyria, OH 44035. | Lorain County Administration Building, 226 Middle Avenue, Elyria, OH 44035. | https://msc.fema.gov/portal/advanceSearch. | Jan. 22, 2021 | 390350
Lorain | Unincorporated Areas of Lorain County (19-05-3354P). | Ms. Lori Kokoski, President, Board of Commissioners, Lorain County, 226 Middle Avenue, Elyria, OH 44035. | Lorain County Administration Building, 226 Middle Avenue, Elyria, OH 44035. | https://msc.fema.gov/portal/advanceSearch. | Jan. 22, 2021 | 390346
Medina | City of Brunswick (20-05-0885P). | The Honorable Ron Falconi, Mayor, City of Brunswick, 4095 Center Road, Brunswick, OH 44212. | City Engineer, 4095 Center Road, Brunswick, OH 44212. | https://msc.fema.gov/portal/advanceSearch. | Jan. 6, 2021 | 390380
Oregon:
Multnomah | City of Troutdale (20-10-0496P). | The Honorable Casey Ryan, Mayor, City of Troutdale, 219 East Historic Columbia River Hwy., Troutdale, OR 97060. | City Hall, 219 East Historic Columbia River Hwy., Troutdale, OR 97060. | https://msc.fema.gov/portal/advanceSearch. | Jan. 11, 2021 | 410184
Multnomah | Unincorporated Areas of Multnomah County (20-10-0496P). | Ms. Deborah Kafoury, Chair, Multnomah County, 501 Southeast Hawthorne Boulevard, Suite 600, Portland, OR 97214. | Multnomah County Office of Land Use and Planning, 1600 Southeast 190th Avenue, Portland, OR 97233. | https://msc.fema.gov/portal/advanceSearch. | Jan. 11, 2021 | 410179
Utah: Morgan | Unincorporated Areas Morgan County (20-08-0579P). | Mr. Roland Haslam, Chair, Morgan County Board, 48 West Young Street, Morgan, UT 84050. | Morgan County Community Development Department, 48 West Young Street, Morgan, UT 84050. | https://msc.fema.gov/portal/advanceSearch. | Jan. 20, 2021 | 490092

[FR Doc. 2020-24294 Filed 11-2-20; 8:45 am]

BILLING CODE 9110-12-P